ENVIRONMENTAL PROTECTION AGENCY

40 CFR Part 52

[EPA-R09-OAR-2007-0236; FRL-8444-3]

Partial Withdrawal of Direct Final Rule Revising the California State Implementation Plan, San Joaquin Valley Air Pollution Control District

AGENCY: Environmental Protection Agency (EPA).

ACTION: Final rule; partial withdrawal.

SUMMARY: On May 30, 2007 (72 FR 29886), EPA published a direct final approval of revisions to the California State Implementation Plan (SIP). These revisions concerned San Joaquin Valley Air Pollution Control District (SJVAPCD) Rule 4307, Boilers, Steam Generators and Process Heaters—2.0 MMBtu/hr to 5.0 MMBtu/hr; Rule 4308, Boilers, Steam Generators and Process Heaters—0.075 MMBtu/hr to 2.0 MMBtu/hr; Rule 4309, Dryers, Dehydrators, and Ovens; Rule 4352, Solid Fuel Fired Boilers, Steam Generators and Process Heaters; and Rule 4905, Natural Gas-Fired, Fan-Type Residential Central Furnaces. The direct final action was published without prior proposal because EPA anticipated no adverse comment. The direct final rule stated that if adverse comments were received by June 29, 2007, EPA would publish a timely withdrawal in the Federal Register. EPA received timely adverse comments. Consequently, with this revision we are withdrawing the direct final approval of SJVAPCD Rule 4352. EPA will either address the comments in a subsequent final action based on the parallel proposal also published on May 30, 2007 (72 FR 29901), or repropose an alternative action. As stated in the parallel proposal, EPA will not institute a second comment period on a subsequent final action. The other rules approved in the May 30, 2007 direct final action, SJVAPCD Rules 4307, 4308, 4309, and 4905, are not affected by this partial withdrawal and are incorporated into the SIP as of the effective date of the May 30, 2007 direct final action.

DATES: This rule and withdrawal are effective July 30, 2007.

ADDRESSES: EPA has established docket number EPA-R09-OAR-2007-0236 for this action. The index to the docket is available electronically at http://www.regulations.gov and in hard copy at EPA Region IX, 75 Hawthorne Street, San Francisco, California. While all documents in the docket are listed in the index, some information may be publicly available only at the hard copy location (e.g., copyrighted material), and some may not be publicly available in either location (e.g., CBI). To inspect the hard copy materials, please schedule an appointment during normal business hours with the contact listed in the FOR FURTHER INFORMATION CONTACT section.

FOR FURTHER INFORMATION CONTACT: Francisco Dóñez, EPA Region IX, (415) 972-3956, Donez.Francisco@epa.gov.

List of Subjects in 40 CFR Part 52

Environmental protection, Air pollution control, Intergovernmental relations, Nitrogen dioxide, Ozone, Particulate matter, Reporting and recordkeeping requirements.

Dated: July 10, 2007.
Keith Takata,
Acting Regional Administrator, Region IX.

Part 52, chapter I, title 40 of the Code of Federal Regulations is amended as follows:

PART 52—[AMENDED]

1. The authority citation for part 52 continues to read as follows:

Authority: 42 U.S.C. 7401 et seq.

2. Section 52.220 is amended by revising paragraph (c)(347)(i)(A)(1) to read as follows:

§ 52.220 Identification of plan.

* * * * *

(c) * * *

(347) * * *

(i) * * *

(A) * * *

(1) Rule 4307, adopted on April 20, 2006.

* * * * *

[FR Doc. E7-14679 Filed 7-27-07; 8:45 am]

BILLING CODE 6560-50-P